DEPARTMENT OF TRANSPORTATION

Federal Aviation Administration

Fifth Meeting: Special Committee 231 (SC 231)

AGENCY: Federal Aviation Administration (FAA), U.S. Department of Transportation (DOT).

ACTION: Fifth Meeting Notice of Special Committee 231.

SUMMARY: The FAA is issuing this notice to advise the public of the fifth meeting of the Special Committee 231.

DATES: The meeting will be held June 9th-11th from 9:00 a.m.-5:00 p.m.

ADDRESSES: The meeting will be held at RTCA Headquarters, 1150 18th Street NW., Suite 910, Washington, DC 20036, Tel: (202) 330-0663.

FOR FURTHER INFORMATION CONTACT: The RTCA Secretariat, 1150 18th Street NW., Suite 910, Washington, DC 20036, or by telephone at (202) 833-9339, fax at (202) 833-9434, or Web site at http://www.rtca.org or Sophie Bousquet, Program Director, RTCA, Inc., sbousquet@rtca.org, 202-330-0663.

SUPPLEMENTARY INFORMATION: Pursuant to section 10(a)(2) of the Federal Advisory Committee Act (Pub. L. 92-463, 5 U.S.C., App.), notice is hereby given for a meeting of the Special Committee 231. The agenda will include the following:

Tuesday, June 9, 2015

1. Welcome/Introduction

2. Administrative Remarks

3. Agenda Review

4. Summary of Working Group activities

5. Other Business

6. Date and Place of Next Meeting

Wednesday, June 10, 2015

1. Continuation of Plenary or Working Group Session Co-Chairmen's remarks and introductions

Thursday, June 11, 2015

1. Continuation of Plenary or Working Group Session

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 21, 2015.
Latasha Robinson,
Management & Program Analyst, NextGen, Program Oversight and Administration, Federal Aviation Administration.

[FR Doc. 2015-12961 Filed 5-28-15; 8:45 am]

BILLING CODE 4910-13-P